DEPARTMENT OF TRANSPORTATION

National Highway Traffic Safety Administration

[U.S. DOT Docket No. NHTSA-2011-0046]

Reports, Forms, and Record Keeping Requirements

AGENCY: National Highway Traffic Safety Administration (NHTSA), DOT.

ACTION: Request for public comment on proposed collection of information.

SUMMARY: Before a Federal agency can collect certain information from the public, it must receive approval from the Office of Management and Budget (OMB). Under procedures established by the Paperwork Reduction Act of 1995 (44 U.S.C. 3501 et seq.), before seeking OMB approval, Federal agencies must solicit public comment on proposed collections of information, including extensions and reinstatements of previously approved collections.

This document describes an Information Collection Request (ICR) for which NHTSA intends to seek OMB approval.

DATES: Comments must be submitted on or before June 14, 2011.

ADDRESSES: Direct all written comments to the U.S. Department of Transportation Dockets, 1200 New Jersey Ave., SE., Washington, DC 20590. You may also submit comments electronically at http://www.regulations.gov. All comments should refer to the Docket No. NHTSA-2011-0046.

FOR FURTHER INFORMATION CONTACT: Jessica Cicchino, PhD, Contracting Officer's Technical Representative, Office of Behavioral Safety Research (NTI-131), National Highway Traffic Safety Administration, 1200 New Jersey Ave., SE., W46-491, Washington, DC, 20590. Dr. Cicchino's phone number is 202-366-2752 and her e-mail address is jessica.cicchino@dot.gov.

SUPPLEMENTARY INFORMATION: Under the Paperwork Reduction Act of 1995, before an agency submits a proposed collection of information to OMB for approval, it must publish a document in the Federal Register providing a 60-day comment period and otherwise consult with members of the public and affected agencies concerning each proposed collection of information. The OMB has promulgated regulations describing what must be included in such a document. Under OMB's regulations (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected; and

(iv) How to minimize the burden of the collection of information on those who are to respond, including the use of appropriate automated, electronic, mechanical, or other technological collection techniques or other forms of information technology, e.g., permitting electronic submission of responses.

In compliance with these requirements, NHTSA asks public comment on the following proposed collection of information:

Title: Evaluation of Impaired Riding Interventions.

Type of Request: New information collection request.

OMB Clearance Number: None.

Form Number: This collection of information uses no standard forms.

Requested Expiration Date of Approval: 3 years from date of approval.

Summary of the Collection of Information: The National Highway Traffic Safety Administration (NHTSA) proposes to collect information from the public to evaluate intervention programs in multiple locations designed to reduce impaired motorcycle riding. NHTSA anticipates that the programs will take place over the 2012 riding season. In-person interviews will be conducted with motorcycle riders in up to 4 program sites, and in up to 2 control sites not carrying out an intervention. Motorcycle riders will be interviewed at locations within the sites where riders congregate. Interview length will average 5 minutes and will collect information on attitudes, awareness, knowledge, and behavior related to the intervention.

The interviews will follow a pre-post design where they are administered prior to the implementation of the intervention and after its conclusion. Up to 2 waves of program activity are planned in each program site, and thus interviews will be administered a maximum of 4 times in each site (before and after each of 2 program waves). Sample size will be up to 500 riders per interview administration, for a total maximum of 12,000 riders.

For interventions where a pre-post design would not be possible (i.e., interventions that are conducted in conjunction with an infrequently-occurring event), the interviews will follow a test-control design where they are administered during the intervention in the program site, and in a control site that did not experience an intervention. The proposed interviews will be anonymous. Participation by respondents will be voluntary.

Need and Use of Information: The National Highway Traffic Safety Administration (NHTSA) was established to reduce the mounting number of deaths, injuries, and economic losses resulting from motor vehicle crashes on the Nation's highways. As part of this statutory mandate, NHTSA is authorized to conduct research as a foundation for the development of motor vehicle standards and traffic safety programs.

The heavy toll that impaired driving exacts on the Nation in fatalities, injuries, and economic costs is well documented. Impaired motorcycle riding has also been an increasing concern on our Nation's roads. Motorcycle fatalities in the US decreased in 2009 for the first time after steadily increasing for 11 years; however, even with this decline, the number of motorcycle fatalities in 2009 was nearly double that from a decade earlier. Alcohol impairment is a factor that contributes to a substantial proportion of fatal motorcycle crashes. In 2009, 30% of motorcycle riders fatally injured in crashes had a blood alcohol concentration (BAC) at or above .08 g/dL, which is per se evidence of impaired riding in all States. Forty-two percent of riders who died in single-vehicle crashes in 2009, and 63% of riders who died in single-vehicle crashes on weekend nights, had a BAC of .08 g/dL or higher.

In 2012, NHTSA anticipates sponsoring demonstration projects in multiple sites to conduct interventions with the purpose of reducing impaired motorcycle riding. NHTSA plans to evaluate these interventions to determine their effectiveness. A key component of this evaluation effort will use brief interviews to assess motorcycle riders' knowledge of the intervention, self-reported drinking and riding behavior, and belief that alcohol-impaired driving laws are enforced for all motorists, including motorcycle riders in the areas in which the interventions will occur.

The findings from this proposed collection of information will assist NHTSA in addressing the problem of alcohol-impaired motorcycle riding. NHTSA will use the findings to help focus current programs and activities to achieve the greatest benefit, to develop new programs to decrease the likelihood of impaired riding, and to provide informational support to States, localities, and law enforcement agencies that will aid them in their efforts to reduce impaired motorcycle crashes.

Description of the Likely Respondents (Including Estimated Number, and Proposed Frequency of Response to the Collection of Information): Under this proposed effort, NHTSA intends to conduct up to 12,000 face-to-face interviews with motorcycle riders. Interview length will average 5 minutes, and each member of the sample would complete one interview. Businesses would be ineligible for the sample and would not be interviewed. Interviews will be conducted in a maximum of 4 demonstration sites and 2 control sites, with up to 4 interview administrations occurring in each site (baseline and post-intervention surveys before and after each of 2 program waves). Up to 500 motorcycle riders will be interviewed at each site during each interview administration.

Estimate of the Total Annual Reporting and Record Keeping Burden Resulting from the Collection of Information: NHTSA estimates the respondents in the sample will require an average of 5 minutes to complete the interviews. Thus, for the 12,000 respondents, the estimated reporting burden hours on the general public will be a maximum of 1,000 hours, over one year. The respondents will not incur any record-keeping burden or record-keeping cost from the information collection.

Authority: 44 U.S.C. 3506(c)(2)(A).

Jeffrey Michael,
Associate Administrator, Research and Program Development.

[FR Doc. 2011-9130 Filed 4-14-11; 8:45 am]

BILLING CODE 4910-59-P